DEPARTMENT OF DEFENSE

Department of the Navy

Public Hearings for the Draft Environmental Impact Statement for Navy Air-To-Ground Training at Avon Park Air Force Range, Florida

AGENCY: Department of the Navy, DoD.

ACTION: Announcement of public hearings.

SUMMARY: Pursuant to Section (102)(2)(c) of the National Environmental Policy Act (NEPA) of 1969, as implemented by the Council on Environmental Quality Regulations (40 Code of Federal Regulations Parts 1500-1517), the U.S. Department of the Navy (Navy) has prepared a Draft Environmental Impact Statement (EIS) to evaluate the potential environmental consequences of utilizing Avon Park Air Force Range (APAFR), Florida, as a location for high-explosive (HE) and inert/practice air-to-ground ordnance training for East Coast carrier-based strike/fighter aviation squadrons. Squadrons would use APAFR in combination with other available air-to-ground range assets to meet the operational requirements of its Fleet Readiness Training Program (FRTP). FRTP air-to-ground training will encompass operations associated with Navy integrated and sustainment level training exercises and combat certification. The Draft EIS focuses on air-to-ground training alternatives within APAFR. These alternatives encompass varying mixtures of ordnance types among different impact areas within APAFR.

This notice is to announce public hearings for the Draft EIS. An open information session will precede the scheduled public hearing and will allow individuals to review the data presented in the Draft EIS. Navy representatives will be available during the information session to clarify information related to the Draft EIS. The information session of the hearing is scheduled from 7 p.m. to 7:45 p.m., followed by a formal public hearing from 7:45 p.m. to 9 p.m.

DATES: The meeting dates are as follows:

1. March 1, 2005, 7 p.m. to 9 p.m., Frostproof, FL.

2. March 2, 2005, 7 p.m. to 9 p.m., Sebring, FL.

3. March 3, 2005, 7 p.m. to 9 p.m., Avon Park, FL.

ADDRESSES: Public hearings locations are as follows:

1. Frostproof—Frostproof High School (Cafeteria), 1000 N. Palm Street, Frostproof, FL 33843.

2. Sebring—Sebring Civic Center (behind Public Library) 355 West Center Avenue, Sebring, FL 33870.

3. Avon Park—City of Avon Park Community Center, 310 West Main Street, Avon Park, FL 33825.

FOR FURTHER INFORMATION CONTACT: Mr. Will Sloger, Southern Div., Naval Facilities Engineering Command, P.O. Box 190010, North Charleston, SC 29419-9010; telephone (843) 820-5797; facsimile (843) 820-7472.

SUPPLEMENTARY INFORMATION: The proposed action is to add to APAFR's capabilities to allow it to conduct all components of “air-to-ground ordnance delivery and training” of integrated and sustainment levels of the FRTP at the range, a critical element of which is delivery of HE ordnance. Training would originate from afloat Navy Carrier Strike Groups operating in either the Atlantic Ocean or the Gulf of Mexico. FRTP training exercises are typically conducted three times a year, but depending on world conditions and military requirements, up to six exercises could occur annually. Although unlikely, there is a remote possibility that APAFR could be utilized as the sole range for the delivery of HE munitions for the FRTP over the course of a given year. This would be the exception rather than the rule. Each exercise would use the range for 20 days, resulting in Navy specific use of the range for as many as 60 days during a typical year, up to a maximum of 120 days. The purpose of the proposed action is to improve and enhance the Atlantic Fleet's depth of range resources for FRTP, and, consequently, increase its flexibility to conduct training. The Atlantic Fleet needs to fulfill its statutory mission to have combat-capable air forces ready to deploy worldwide. The Navy is the lead agency for the proposed action with the U.S. Department of the Air Force (Air Force) serving as cooperating agency.

In the Draft EIS, the Navy initially identifies nine candidate ranges for conducting all components of air-to-ground training exercises associated with the FRTP. Two of these ranges (Eglin Air Force Base and the Navy's Pinecastle Range, both in Florida) do not meet the purpose of the proposed action to enhance the depth of available resources. These ranges currently support all components of air-to-ground ordnance delivery, including use of explosive ordnance, and training. Six of the remaining seven (Rodman Bombing Range, Florida; Lake George Bombing Range, Florida; Townsend Bombing Range, Georgia; Dare County Bombing Range, North Carolina; Cherry Point Range Complex, North Carolina; and Camp Shelby Range Complex, Mississippi) candidates fail to fully meet the aircrew training enhancement objectives used to screen the ranges.

Six air-to-ground training alternatives within APAFR are analyzed in detail in the Draft EIS. The alternatives involve using different combinations of target ranges at APAFR. The preferred alternative would use a range identified as the Alpha Plus range for air-to-ground training. This alternative minimizes impacts to endangered species and their habitat on APAFR, as well as other operations and activities on the range.

The Draft EIS has been distributed to various Federal, state, and local agencies, as well as other interested individuals and organizations. In addition, copies of the Draft EIS have been distributed to the following libraries for public review:

1. Avon Park Library, 100 North Museum Avenue, Avon Park, FL 33825.

2. Maxcy Memorial Library, 15 North Magnolia, Frostproof, FL 33843.

3. Sebring Public Library, 319 W Center Ave, Sebring, FL 33870.

4. Lakeland Public Library, 100 Lake Morton Dr, Lakeland, FL 33801.

An electronic copy of the Draft EIS is also available for public viewing at http://www.avonpark.ene.com. A limited number of single copies of the Draft EIS, in paper copy or on compact disk, and Executive Summary are available upon request by contacting Mr. Will Sloger at (843) 820-5797.

Federal, State, and local agencies, as well as interested parties are invited and urged to be present or represented at the hearings. Oral statements will be heard and transcribed by a stenographer; however, to ensure the accuracy of the record, all statements should be submitted in writing. All statements, both oral and written, will become part of the public record on the Draft EIS and will be responded to in the Final FEIS. Equal weight will be given to both oral and written statements.

In the interest of available time, and to ensure all who wish to give an oral statement have the opportunity to do so, each speaker's comments will be limited to three (3) minutes. If a longer statement is to be presented, it should be summarized at the public hearing and the full text submitted in writing either at the hearing or mailed or faxed to: Commander, Southern Division Naval Facilities Engineering Command, Attn: Mr. Will Sloger (Code ES12), P.O. Box 190010, North Charleston, SC 29419-9010, telephone (843) 820-5797, facsimile (843) 820-7472.

All written comments postmarked by March 14, 2005, will become a part of the official public record and will be responded to in the Final EIS.

Dated: February 8, 2005.
I.C. Le Moyne Jr.,
Lieutenant, Judge Advocate General's Corps, U.S. Navy, Alternate Federal Register Liaison Officer.

[FR Doc. 05-2817 Filed 2-11-05; 8:45 am]

BILLING CODE 3810-FF-P